DEPARTMENT OF LABOR

Office of the Secretary

Submission for OMB Review; Comment Request

January 30, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail King-Darrin@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection

Agency: Employment Standards Administration (ESA)

Title: Applications to Employ Special Industrial Homeworkers and Workers with Disabilities

OMB Number: 1215-0005

Affected Public: Business or other for-profit; Individuals or households; Not-for-profit institution; Farms; and State, Local, or Tribal Government

Frequency: Annually and Biennially

Form | Respondents | Responses | Average time per response | Burden hours
WH-2 | 50 | 50 | 30 | 25
WH-226* | 4,500 | 4,500 | 45 | 3,375
WH-226A* | 4,500 | 12,000 | 45 | 9,000
Total | 4,550 | 16,550 |  | 12,400
* Same respondents.

Total Annualized Capital/Startup Costs: $0.

Total Annual Costs (operating/maintaining systems or purchasing services): $1,684.

Description: This information collection is necessary to determine whether respondents will be authorized to pay sub-minimum wages to handicapped individuals and employ homeworkers in the restricted industries under the provisions of sections 11(d) and 14(c) of the Fair Labor Standards Act.

Type of Review: Extension of a currently approved collection.

Agency: Employment Standards Administration (ESA).

Title: Notice of Issuance of Insurance Policy.

OMB Number: 1215-0059.

Affected Public: Business or other for-profit and State, Local, or Tribal Government.

Frequency: Annually.

Number of Respondents: 60.

Number of Annual Responses: 4,000.

Estimated Time Per Response: 10 minutes.

Total Burden Hours: 667.

Total Annualized Capital/Startup Costs: $0.

Total Annual Costs (operating/maintaining systems or purchasing services): $1,680.

Description: The CM-921 provides insurance carriers with the means to supply the Department of Labor with information showing that a responsible coal mine operator is insured against its Federal Black Lung compensation liability pursuant to the requirements established in the Federal Black Lung Benefits Act. The CM-921 is authorized by 20 CFR ch. VI, Subpart C, 726.208-213.

Type of Review: Extension of a currently approved collection.

Agency: Employment Standards Administration (ESA).

Title: Request for Employment Information.

OMB Number: 1215-0105.

Affected Public: Business or other for-profit.

Frequency: On occasion.

Number of Respondents: 500.

Number of Annual Responses: 500.

Estimated Time Per Response: 15 minutes.

Total Burden Hours: 125.

Total Annualized Capital/Startup Costs: 40.

Total Annual Costs (operating/maintaining systems or purchasing services): $185.

Description: This information collection is used to collect information about a claimant's employment. It is necessary to determine continued eligibility for compensation payments under the Federal Employees' Compensation Act (FECA).

Ira L. Mills,
Departmental Clearance Officer.

[FR Doc. 01-3285 Filed 2-7-01; 8:45 am]

BILLING CODE 4510-27-M